DEPARTMENT OF COMMERCE

National Telecommunications and Information Administration

47 CFR Part 300

[Docket Number: 160523450-6450-01]

RIN 0660-AA32

Revision to the Manual of Regulations and Procedures for Federal Radio Frequency Management

AGENCY: National Telecommunications and Information Administration, U.S. Department of Commerce.

ACTION: Final rule.

SUMMARY: The National Telecommunications and Information Administration (NTIA) is making certain changes to its regulations relating to the public availability of the Manual of Regulations and Procedures for Federal Radio Frequency Management (NTIA Manual). Specifically, NTIA is releasing an update to the current edition of the NTIA Manual, with which federal agencies must comply when requesting use of radio frequency spectrum. NTIA is also making changes to the regulatory text to comply with the Incorporation by Reference formatting structure.

DATES: This regulation is effective on June 1, 2016. The incorporation by reference of certain publications listed in the rule is approved by the Director of the Federal Register as of June 1, 2016.

ADDRESSES: A reference copy of the NTIA Manual, including all revisions in effect, is available in the Office of Spectrum Management, 1401 Constitution Avenue NW., Room 1087, Washington, DC 20230.

FOR FURTHER INFORMATION CONTACT: William Mitchell, Office of Spectrum Management, at (202) 482-8124 or wmitchell@ntia.doc.gov.

SUPPLEMENTARY INFORMATION:

Background

NTIA authorizes the U.S. Government's use of radio frequency spectrum. 47 U.S.C. 902(b)(2)(A). As part of this authority, NTIA developed the NTIA Manual to provide further guidance to applicable federal agencies on the use of the radio frequency spectrum for radio transmissions for telecommunications or for other purposes. The NTIA Manual is the compilation of policies and procedures that govern the use of the radio frequency spectrum by the U.S. Government. Federal government agencies are required to follow these policies and procedures in their use of spectrum.

Part 300 of title 47 of the Code of Federal Regulations provides information about the process by which NTIA regularly revises the NTIA Manual and makes public this document and all revisions. Federal agencies are required to comply with the specifications in the NTIA Manual when requesting frequency assignments. See 47 U.S.C. 901 et seq., Executive Order 12046 (March 27, 1978), 43 FR 13349, 3 CFR 1978 Comp. at 158.

This rule updates § 300.1(b) of title 47 of the Code of Federal Regulations to specify the edition of the NTIA Manual with which federal agencies must comply when requesting frequency assignments. In particular, this rule amends § 300.1(b) by replacing “2013 Edition of the NTIA Manual, dated May 2014” with “2013 Edition of the NTIA Manual, as revised through September 2015.” See Revision to the Manual of Regulations and Procedures for Federal Radio Frequency Management, 79 FR 73486, 73486-87 (Dec. 11, 2014). (revising the Manual through May 2014). Upon the effective date of this rule, federal agencies must comply with the requirements set forth in the 2013 edition of the NTIA Manual, as revised through September 2015.

The NTIA Manual is available from the Superintendent of Documents, U.S. Government Printing Office, Washington, DC 20402, by referring to Catalog Number 903-008-00000-8. A reference copy of the NTIA Manual, including all revisions in effect, is available in the Office of Spectrum Management, 1401 Constitution Avenue NW., Room 1087, Washington, DC 20230, by calling William Mitchell on (202) 482-8124, and available online at https://www.ntia.doc.gov/osmhome/redbook/redbook.html.

This rule also amends the regulatory text in section 300.1(b) of title 47 of the Code of Federal Regulations to comply with the Incorporation by Reference formatting structure.

Paperwork Reduction Act

This action does not contain collection of information requirements subject to the Paperwork Reduction Act (PRA). Notwithstanding any other provision of law, no person is required to respond to, nor shall any person be subject to a penalty for failure to comply with a collection of information subject to the Paperwork Reduction Act unless that collection displays a currently valid OMB Control Number.

Executive Order 12866

This rule has been determined to be not significant for purposes of Executive Order 12866.

Administrative Procedure Act/Regulatory Flexibility Act

NTIA finds good cause under 5 U.S.C. 553(b)(3)(B) to waive prior notice and opportunity for public comment as it is unnecessary. This action amends the regulations to include the date of the most current edition of the NTIA Manual. These changes do not impact the rights or obligations to the public. The NTIA Manual applies only to federal agencies. Because these changes impact only federal agencies, NTIA finds it unnecessary to provide for the notice and comment requirements of 5 U.S.C. 553. NTIA finds good cause under 5 U.S.C. 553(d)(3) to waive the 30-day delay in effectiveness for the reasons provided above. Because notice and opportunity for comment are not required pursuant to 5 U.S.C. 553 or any other law, the analytical requirements of the Regulatory Flexibility Act (5 U.S.C. 601 et seq.) are not applicable. Therefore, a regulatory flexibility analysis is not required and has not been prepared.

Congressional Review Act

The NTIA Manual provides for policies and procedures for federal agencies' use of spectrum. The NTIA Manual and the changes thereto do not substantially affect the rights or obligations of the public. As a result, this notice is not a “rule” as defined by the Congressional Review Act, 5 U.S.C. 804(3)(C).

Executive Order 13132

This rule does not contain policies having federalism implications as that term is defined in Executive Order 13132.

Regulatory Text

List of Subjects in 47 CFR Part 300

Communications, Incorporation by reference, Radio.

For the reasons set forth in the preamble, NTIA amends 47 CFR part 300 as follows:

PART 300—MANUAL OF REGULATIONS AND PROCEDURES FOR FEDERAL RADIO FREQUENCY MANAGEMENT

1. The authority citation for part 300 continues to read as follows:

Authority: 47 U.S.C. 901 et seq., Executive Order 12046 (March 27, 1978), 43 FR 13349, 3 CFR 1978 Comp., p. 158.

2. Amend § 300.1 by revising paragraph (b) and removing paragraph (c).

The revision reads as follows:

§ 300.1 Incorporation by reference of the Manual of Regulations and Procedures for Federal Radio Frequency Management.

* * * * *

(b) The Federal agencies shall comply with the requirements set forth in the 2013 edition of the NTIA Manual, as revised through September 2015, which is incorporated by reference with approval of the Director, Office of the Federal Register in accordance with 5 U.S.C. 552(a) and 1 CFR part 51. The NTIA Manual is available from the Superintendent of Documents, U.S. Government Printing Office, Washington, DC 20402, by referring to Catalog Number 903-008-00000-8. A reference copy of the NTIA Manual, including all revision in effect, is available in the Office of Spectrum Management, 1401 Constitution Avenue NW., Room 1087, Washington, DC 20230, or call William Mitchell at (202) 482-8124. The NTIA Manual is available online at https://www.ntia.doc.gov/osmhome/redbook/redbook.html.

Dated: May 24, 2016.
Lawrence E. Strickling,
Assistant Secretary for Communications and Information.

[FR Doc. 2016-12640 Filed 5-31-16; 8:45 am]

BILLING CODE 3510-60-P